SMALL BUSINESS ADMINISTRATION

13 CFR Part 121

RIN 3245-AE92

Small Business Size Regulations; Rules of Procedure Governing Cases Before the Office of Hearings and Appeals; Correction

AGENCY: U.S. Small Business Administration.

ACTION: Correcting amendments.

SUMMARY: The U.S. Small Business Administration (SBA) is correcting several of its Small Business Size Regulations, published in the Federal Register on May 21, 2004. SBA is correcting a reference to an incorrect North American Industry Classification System (NAICS) code, and updating two Internet Web addresses that appear in part 121 of the Code of Federal Regulations (CFR), chapter 13.

DATES: Effective September 9, 2009.

FOR FURTHER INFORMATION CONTACT: Carl J. Jordan, Program Analyst, Office of Size Standards, (202) 205-6618 or sizestandards@sba.gov.

SUPPLEMENTARY INFORMATION: SBA is correcting language and references in its Small Business Size Regulations contained in part 121 of the Code of Federal Regulations (CFR), chapter 13. These are administrative corrections only. Specifically, SBA is correcting 13 CFR 121.101, 121.410 and 121.1205.

1. 13 CFR 121.101, “What are SBA size standards?”

The text of 13 CFR § 121.101(b) provides the Internet Web address where the public can obtain the North American Industry Classification System Manual-United States from the National Technical Information Service (NTIS), part of the U.S. Department of Commerce. The Internet Web address provided in the text is http://www.ntis.gov/yellowbk/1nty205.htm. The NTIS has established a new address, specifically http://www.ntis.gov/products/naics.aspx. Although the existing Web address in § 121.101 will take a user to the updated site, SBA believes it should update its regulations as well to reflect the correct Internet Web address.

2. 13 CFR 121.410, “What are the size standards for SBA's Section 8(d) Subcontracting Program?”

SBA published in the May 15, 2000, Federal Register (65 FR 30836-30863) a new table of small business size standards effective October 1, 2000 for industries as defined under NAICS. Until October 1, 2000, the Standard Industrial Classification (SIC) System was the basis for SBA's table of small business size standards. The May 15, 2000 final rule amended 13 CFR 121.410 by replacing “SIC code 8711” with “NAICS code 541330.”

However, an error was made when SBA issued a proposed rule on November 22, 2002, (67 FR 70339-70352) to amend its small business size regulations and the regulations that apply to appeals of size determinations. That rule proposed amending 13 CFR 121.410, which relates to size standards under SBA's Section 8(d) Subcontracting Program. The proposed amendment correctly preserved the language of the May 15, 2000 final rule that described Engineering Services. However, the proposed rule wrongly referenced NAICS code 541213, which is the code for Tax Preparation Services. The proposed rule should have referenced NAICS code 541330, because it is the correct code for Engineering Services, described in 13 CFR 121.410. The corresponding final rule that SBA published on May 21, 2004 (69 FR 29192-29209) did not correct this error, thereby leaving NAICS code 541213 to refer incorrectly to Engineering Services.

The text of 13 CFR 121.410 plainly refers to subcontracting activities that are included within NAICS code 541330, Engineering Services. Furthermore, NAICS code 541330 in SBA's “Small Business Size Standards by NAICS Industry” (13 CFR 121.201) clearly includes the same types of contracting activities described in 13 CFR 121.410. The purpose of this correction is to replace NAICS code 541213 in § 121.410 with NAICS code 541330.

3. 13 CFR 121.1205, “How is a list of previously granted class waivers obtained?”

The text of 13 CFR 121.1205 provides the Internet Web address where SBA maintains for the public a list of waivers of the Nonmanufacturer Rule that it has granted. SBA has updated that Internet Web address, and this action will similarly update § 121.1205.

List of Subjects in 13 CFR Part 121

Administrative practice and procedure, Government procurement, Government property, Grant programs—business, Individuals with disabilities, Loan programs—business, Reporting and recordkeeping requirements, Small businesses.

For the reasons set forth in the preamble, SBA amends part 13 CFR part 121 by making the following correcting amendments.

PART 121—SMALL BUSINESS SIZE REGULATIONS

1. The authority citation for part 121 continues to read as follows:

Authority: 15 U.S.C. 632, 634(b)(6), 636(b), 637(a), 644, and 662(5); and Pub. L. 105-135, sec. 401 et seq., 111 Stat. 2592.

2. Amend § 121.101 by revising the first sentence of paragraph (b) to read as follows:

§ 121.101 What are SBA size standards?

* * * * *

(b) NAICS is described in the North American Industry Classification Manual-United States, which is available from the National Technical Information Service, 5285 Port Royal Road, Springfield, VA 22161; by calling 1(800) 553-6847 or 1(703) 605-6000; or via the Internet at http://www.ntis.gov/products/naics.aspx. * * *

3. Amend § 121.410 by revising the second sentence to read as follows:

§ 121.410 What are the size standards for SBA's Section 8(d) Subcontracting Program?

* * * However, subcontracts for engineering services awarded under the National Energy Policy Act of 1992 have the same size standard as Military and Aerospace Equipment and Military Weapons under NAICS code 541330.

4. Amend § 121.1205 by revising the first sentence to read as follows:

§ 121.1205 How is a list of previously granted class waivers obtained?

A list of classes of products for which waivers for the Nonmanufacturer Rule have been granted is maintained in SBA Web site at: http://www.sba.gov/aboutsba/sbaprograms/gc/programs/gc_waivers_nonmanufacturer.html. * * *

Dean R. Koppel,
Acting Director, Office of Government Contracting.

[FR Doc. E9-21505 Filed 9-8-09; 8:45 am]

BILLING CODE 8025-01-P